COMMITTEE FOR PURCHASE FROM PEOPLE WHO ARE BLIND OR SEVERELY DISABLED

Procurement List: Addition and Deletions; Correction

In the document appearing on page 12339, FR Doc 03-6168, in the issue of March 14, 2003, in the third column the Committee published a deletion to the Procurement List for Janitorial/ Custodial, U.S. Courthouse and Customhouse, Toledo, Ohio. This deletion is cancelled. The building was identified as no longer being a Federal building. We have since been advised that information was incorrect. The building will remain on the Procurement List with continuing service provided by a Nonprofit Agency.

G. John Heyer,
General Counsel.

[FR Doc. 03-8933 Filed 4-10-03; 8:45 am]

BILLING CODE 6353-01-P